DEPARTMENT OF HEALTH AND HUMAN SERVICES

Administration for Community Living

Agency Information Collection Activities; Proposed Collection; Comment Request; Extension State Plan for Independent Living (SPIL) Public Law (105-220) for the State Independent Living (SILS) and Centers for Independent Living (CIL) Program Authorized by Title VII, Chapter 1, of the, as Amended by the Workforce Innovation and Opportunity Act (WIOA, Pub. L. 113-128) [Rehabilitation Act]

AGENCY: Center for Independent Living Administration, Administration for Community Living (ACL), HHS.

ACTION: Notice.

SUMMARY: The Administration for Community Living (ACL), Independent Living Administration is announcing an opportunity for public comment on the proposed collection of certain information. Under the Paperwork Reduction Act of 1995 (the PRA), Federal agencies are required to publish notice in the Federal Register concerning each proposed collection of information, including each proposed extension of an existing collection of information, and to allow 60 days for public comment in response to the notice. This notice solicits comments on the information collection requirements relating to the State Plan for Independent Living (SPIL).

DATES: Submit written or electronic comments on the collection of information by January 11, 2016.

ADDRESSES: Submit electronic comments on the collection of information to: veronica.hogan@acl.hhs.gov. Submit written comments on the collection of information to Administration for Community, Independent Living Administration, 550 12th Street Southwest, PCP Building, Room 5044, Washington, DC 20202, attention Veronica Hogan.

FOR FURTHER INFORMATION CONTACT: Veronica Hogan, Grant Management Specialist, (202) 245-7378 or by email veronica.hogan@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL/ILA is publishing notice of the proposed collection of information set forth in this document. With respect to the following collection of information, ACL/ILA invites comments on: (1) Whether the proposed collection of information is necessary for the proper performance of ACL/ILA's functions, including whether the information will have practical utility; (2) the accuracy of ACL/ILA estimate of the burden of the proposed collection of information, including the validity of the methodology and assumptions used; (3) ways to enhance the quality, utility, and clarity of the information to be collected; and (4) ways to minimize the burden of the collection of information on respondents, including through the use of automated collection techniques when appropriate, and other forms of information technology.

The Independent Living Program is required by federal statute and regulation requires the collection of this information every three years. The three-year period for the next SPIL is FY 2018-2020. The SPIL provided in writing to the Administration for Community Living, Administration on Disabilities, Independent Living Administration. The five core services are: Advocacy, information and referral, independent living skills training, peer counseling, and transition services. WIOA included three prongs to the 5th core service:

• Facilitating the transition of individuals with significant disabilities from nursing homes and other institutions to home and community-based residences, with the requisite supports and services;

• Provide assistance to individuals with significant disabilities who are at risk of entering institutions so that the individuals may remain in the community, and

• Facilitate the transition of youth who are individuals with significant disabilities, who were eligible for individualized education programs under section 614(d) of the Individuals with Disabilities Act (20 U.S.C. 1414(d)), and who have completed their secondary education or otherwise left school, to postsecondary life.

ACL estimates the burden of this collection of information as follows: 56 SPIL respond annually which should be an average burden of 60 hours for each grantee. The aggregate hour burden for all grantees is an estimated 3,360 hours (56 grantees × 60 hours each). These estimated hours include the time required for reading, studying and planning for the new SPIL; conducting required public hearings; gathering and reviewing pertinent information; completing the SPIL assurances and narrative sections; reviewing draft and final versions of the completed SPIL; and submission of the final SPIL to ACL.

Dated: November 5, 2015.
Kathy Greenlee,
Administrator and Assistant Secretary for Aging.

[FR Doc. 2015-28745 Filed 11-10-15; 8:45 am]

BILLING CODE 4154-01-P